DEPARTMENT OF ENERGY

Federal Energy Regulatory Commission

Combined Notice of Filings

Take notice that the Commission has received the following Natural Gas Pipeline Rate and Refund Report filings:

Filings Instituting Proceedings

Docket Numbers: RP17-11-000.

Applicants: Guardian Pipeline, L.L.C.

Description: § 4(d) Rate Filing: Update Non-Conforming and Negotiated Rate Agreements—November 2016 to be effective 11/1/2016.

Filed Date: 10/11/16.

Accession Number: 20161011-5145.

Comments Due: 5 p.m. ET 10/24/16.

Docket Numbers: RP17-12-000.

Applicants: Questar Pipeline, LLC.

Description: § 4(d) Rate Filing: Company Name Change to be effective 10/11/2016.

Filed Date: 10/11/16.

Accession Number: 20161011-5237.

Comments Due: 5 p.m. ET 10/24/16.

Docket Numbers: RP17-13-000.

Applicants: Questar Overthrust Pipeline, LLC.

Description: § 4(d) Rate Filing: Change of Company Name to be effective 10/11/2016.

Filed Date: 10/11/16.

Accession Number: 20161011-5239.

Comments Due: 5 p.m. ET 10/24/16.

Docket Numbers: RP17-14-000.

Applicants: Iroquois Gas Transmission System, L.P.

Description: § 4(d) Rate Filing: 10/11/16 Negotiated Rates—Cargill Inorporated (RTS) 3085-28 to be effective 11/1/2016.

Filed Date: 10/11/16.

Accession Number: 20161011-5265.

Comments Due: 5 p.m. ET 10/24/16.

Docket Numbers: RP17-15-000.

Applicants: Iroquois Gas Transmission System, L.P.

Description: § 4(d) Rate Filing: 10/11/16 Negotiated Rates—Direct Energy Business Marketing, LLC (RTS) 7465-06 to be effective 11/1/2016.

Filed Date: 10/11/16.

Accession Number: 20161011-5269.

Comments Due: 5 p.m. ET 10/24/16.

Docket Numbers: RP17-16-000.

Applicants: Iroquois Gas Transmission System, L.P.

Description: § 4(d) Rate Filing: 10/11/16 Negotiated Rates—Emera Energy Services Inc. (RTS) 2715-31 to be effective 11/1/2016.

Filed Date: 10/11/16.

Accession Number: 20161011-5282.

Comments Due: 5 p.m. ET 10/24/16.

Docket Numbers: RP17-17-000.

Applicants: Iroquois Gas Transmission System, L.P.

Description: § 4(d) Rate Filing: 10/11/16 Negotiated Rates—Emera Energy Services Inc. (RTS) 2715-33 to be effective 11/1/2016.

Filed Date: 10/11/16.

Accession Number: 20161011-5288.

Comments Due: 5 p.m. ET 10/24/16.

Docket Numbers: RP17-18-000.

Applicants: Iroquois Gas Transmission System, L.P.

Description: § 4(d) Rate Filing: 10/11/16 Negotiated Rates—Mercuria Energy America, Inc. (RTS) 7540-09 to be effective 11/1/2016.

Filed Date: 10/11/16.

Accession Number: 20161011-5291.

Comments Due: 5 p.m. ET 10/24/16.

Docket Numbers: RP17-19-000.

Applicants: Iroquois Gas Transmission System, L.P.

Description: § 4(d) Rate Filing: 10/11/16 Negotiated Rates—Vitol Inc. (RTS) 7495-02 to be effective 11/1/2016.

Filed Date: 10/11/16.

Accession Number: 20161011-5292.

Comments Due: 5 p.m. ET 10/24/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 12, 2016.
Nathaniel J. Davis, Sr.,
Deputy Secretary.

[FR Doc. 2016-25159 Filed 10-17-16; 8:45 am]

BILLING CODE 6717-01-P